FEDERAL COMMUNICATIONS COMMISSION

47 CFR Part 64

[WC Docket No. 12-375, DA 21-1583; FR ID 64286]

Wireline Competition Bureau Seeks Comment on Revisions to Annual Reporting and Certification Requirements for Inmate Calling Services (ICS) Providers

AGENCY: Federal Communications Commission.

ACTION: Solicitation of comments.

SUMMARY: In this document, the Wireline Competition Bureau (WCB or the Bureau) of the Federal Communications Commission (FCC or the Commission) seeks comment on proposed revisions to the instructions and templates for the Annual Reports and Annual Certifications submitted by providers of inmate calling services.

DATES: Comments are due on or before January 12, 2022; and reply comments are due on or before January 27. 2022.

ADDRESSES: You may submit comments, identified by WC Docket No. 12-375, by any of the following methods:

• Electronic Filers: Comments may be filed electronically using the internet by accessing the ECFS: https://apps.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: Minsoo Kim, Pricing Policy Division, Wireline Competition Bureau, at (202) 418-1739 or via email at Minsoo.Kim@fcc.gov.

SUPPLEMENTARY INFORMATION: This is a summary of the Commission's document, Public Notice, DA 21-1583, released December 15, 2022. The full text of this document is available at https://www.fcc.gov/document/wcb-seeks-comment-ics-annual-reporting-and-certification-revisions.

Synopsis

By this document, the Wireline Competition Bureau (WCB or the Bureau) seeks comment on proposed revisions to the instructions and templates for the Annual Reports and Annual Certifications submitted by providers of inmate calling services (ICS). The Commission requires ICS providers to make these filings to enable the Commission to monitor and track trends in the ICS marketplace, increase provider transparency, and ensure compliance with the Commission's ICS rules.

Pursuant to delegated authority, the Bureau created standardized reporting templates (FCC Form 2301(a)) for the Annual Report and a related certification of accuracy (FCC Form 2301(b)), as well as instructions to guide providers through the reporting process. The Bureau amended the instructions and template for the Annual Report in 2020 in order to improve the type and quality of the information collected.

In the 2021 ICS Order, the Commission revised its ICS rules by adopting, inter alia, lower interim rate caps for interstate ICS calls, new interim rate caps for international ICS calls, and a rate cap structure that requires ICS providers to differentiate between legally mandated and contractually required site commissions. The new 2021 rules necessitate further changes to the annual reporting and certification templates for which WCB seeks comment herein. Pursuant to the Paperwork Reduction Act of 1995 (PRA), WCB will publish a notice in the Federal Register seeking comment on the information collection requirements for the annual reporting and certification requirements in the Public Notice.

I. Overall Structure of the Annual Reporting and Certification Requirements

Pursuant to delegated authority, WCB proposes to revise the instructions and templates for the Annual Reports and Certifications to be consistent with the Commission's rules. These revised instructions and the associated templates, if adopted, will consolidate and supplant the instructions and templates for earlier iterations of the ICS annual reporting and certification requirements. WCB also proposes improvements based on experience reviewing prior Annual Reports, which has persuaded us that revised instructions would help providers better understand the requirements, making the submitted reports more useful to the Commission and consumers. To that end, WCB proposes to adopt both an Excel-format template and a Word-format template for the Annual Reports to better separate individual data items from narrative responses. For simplicity, WCB refers to these respective portions of the template as the Word template and the Excel template. WCB seeks comment on these proposed revisions, generally, and on the specific structure, content, and format of the proposed templates and instructions attached hereto. WCB likewise proposes minor revisions to the certification form. Are there other changes or additions WCB should make to gather better or more accurate data or to make the instructions more clear? Is there additional information or data that WCB should require providers to submit to enable the Commission to better monitor compliance and industry trends, or increase transparency to the public? Conversely, are there any proposed instructions, inquiries, or data fields that should be removed because they are unnecessary to ensure that providers report uniform and accurate data and other information or they would reduce the burdens on providers in submitting this data?

A. Proposed Instructions for Annual Reports

WCB seeks comment on whether the proposed instructions provide sufficient guidance to ensure that providers use uniform methodologies and report the required information in a consistent manner. Are there any additional changes that would clarify the instructions, including the definitions, to help increase uniformity across providers' responses? WCB seeks comment on all aspects of the proposed instructions, including any proposed revisions not explicitly addressed in the Public Notice.

Reporting Period. As has been the case with prior annual reports, the reporting period is the year immediately preceding the year during which the annual report is due. Thus, the reporting period for the next annual reports due April 1, 2022 will be January 1, 2021 through December 31, 2021. The Commission's new interim interstate and international ICS rate caps adopted in the 2021 ICS Order became effective on October 26, 2021. In various places, the proposed instructions explain how providers may report less detailed information for the period between January 1, 2021 and October 25, 2021 than for the period between October 26, 2021 and December 31, 2021 and going forward.

General Categories of Information Requested. The proposed instructions, like for prior reports, require providers to submit certain types of information related to their operations, ICS rates, ancillary service charges, site commissions, and disability access. Do the proposed instructions describe these categories of data in sufficient detail? Is there additional information or data that WCB should require providers to submit in any of these categories to enable the Commission to better monitor compliance and industry trends, or increase transparency to the public? Are there any changes WCB should make to the proposed instructions and templates to make them easier for providers to understand?

B. Specific Data and Information Inquiries

Inmate Calling Service Rates. The proposed instructions require providers to submit intrastate, interstate, and international ICS rates across three general categories: (i) Highest rates charged, (ii) average rates charged, and (iii) year-end rates charged at a particular facility. Specifically, WCB proposes to require the reporting of the highest 15-minute rate, highest year-end 15-minute rate, and average per-minute rate. WCB's current instructions require providers to report every single rate charged over the reporting period. WCB believes the proposed categories will significantly reduce the burdens on providers, particularly those that frequently change their rates. Further, because certain providers may charge one rate for the initial minute of a call and another for each successive minute, obtaining information for 15-minute calls (a duration that the Commission has previously treated as the length of a typical call) will help the Commission compare rates among providers without imposing unwarranted burdens on them. With regard to the highest 15-minute rate, WCB proposes to require providers to break down those rates into the first-minute rate and the rate for additional minutes, and to further report the site commission amounts included in those rates. For interstate and international rates, WCB adds a fourth category, that would require providers to identify all rates charged in excess of the applicable rate caps. For international rates, WCB further proposes to require providers to report terminating charges they paid to their underlying international service provider to each destination. Are the proposed instructions for reporting average international termination charges clear? WCB also proposes to seek certain narrative information about the reported rates, including explanations for rates that exceed the Commission's rate caps.

WCB seeks comment on this rate reporting approach. Will seeking rate information in these categories provide the Commission adequate rate information to ensure compliance with the Commission's rules? Are there other changes WCB can make to the proposed rate reporting structure to make it easier for providers to respond, without sacrificing any necessary information or transparency? That structure is a departure from the previous requirement that a provider must submit every rate charged over the reporting period, a step that should significantly reduce burdens on providers that frequently adjust their rates. WCB believes that requiring providers to identify and submit information on all interstate and international rates that exceed the applicable caps will not impose an unwarranted burden, as WCB expects such violations to be infrequent. WCB believes the proposed rate reporting structure properly balances the need for accurate information on ICS rates with the need to avoid imposing unwarranted burdens on providers. WCB invites comment on this assessment.

Ancillary Service Charges. The proposed instructions continue to require providers to report a variety of information about any ancillary services charges they have assessed. WCB proposes to require a narrative explanation concerning any allocation methodology among facilities in a single contract, where applicable. Is there any additional information WCB should seek that would improve the quantity or quality of ancillary charge information providers are required to submit?

Site Commissions. The proposed instructions seek information concerning site commissions on a more disaggregated basis than WCB has previously required. WCB proposes to require providers to report their average total monthly site commission payments on a facility-by-facility basis and to separate those payments between legally mandated and contractually prescribed site commission payments, consistent with the Commission's rules. WCB also proposes to require providers to subdivide both types of payments between monetary and in-kind payments and, within those subdivisions, to report the portions of the payments that were either fixed or variable. How should providers report the value of in-kind site commission payments? Should WCB, for example, require providers to identify the type and quantity of in-kind payment (such as free or reduced-price equipment) and then assign a dollar value to that payment? Should WCB instruct providers on how to determine the dollar value of an in-kind payment and, if so, what instructions should WCB adopt?

Disability Access and Related Considerations. The proposed instructions continue to require providers to report a variety of information about the provision of ICS to incarcerated people with hearing and speech disabilities, including any Ancillary Service Charges that providers have assessed for or in connection with TTY-based calls. WCB proposes to also require a narrative explanation concerning any allocation methodology used in connection with this information, where applicable, and WCB seeks comment on this approach.

Miscellaneous. The proposed instructions contain a variety of questions seeking basic provider information, as well as questions seeking narrative information about provider operations and facilities. Is there additional information the Commission should seek that would help increase transparency and compliance without imposing unwarranted burdens on providers?

II. Procedural Matters

Filing of Comments and Replies. Pursuant to §§ 1.415 and 1.419 of the Commission's rules, 47 CFR 1.415, 1.419, interested parties may file comments and reply comments on or before the dates indicated on the first page of this document. Comments may be filed using the Commission's Electronic Comment Filing System. See FCC, Electronic Filing of Documents in Rulemaking Proceedings, 63 FR 24121 (May 1, 1998).

Comments and reply comments must include a short and concise summary of the substantive arguments raised in the pleading. Comments and reply comments must also comply with section 1.49 and all other applicable sections of the Commission's rules. WCB directs all interested parties to include the name of the filing party and the date of the filing on each page of their comments and reply comments. All parties are encouraged to use a table of contents, regardless of the length of their submission. WCB also strongly encourages parties to track the organization set forth in the Public Notice and the instructions in order to facilitate the internal review process.

Ex Parte Presentations. This proceeding shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in the prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. Participants in this proceeding should familiarize themselves with the Commission's ex parte rules.

Federal Communications Commission.
Pamela Arluk,
Chief, Competition Policy Division, Wireline Competition Bureau.

[FR Doc. 2021-28494 Filed 1-3-22; 8:45 am]

BILLING CODE 6712-01-P